DEPARTMENT OF COMMERCE

Submission for OMB Review; Comment Request

The Department of Commerce will submit to the Office of Management and Budget (OMB) for clearance the following proposal for collection of information under the provisions of the Paperwork Reduction Act (44 U.S.C. chapter 35).

Agency: National Telecommunications and Information Administration (NTIA).

Title: State Broadband Data and Development (SDBB) Grant Program Progress Report.

OMB Control Number: 0660-0034.

Form Number(s): None.

Type of Request: Regular submission (extension of a currently approved information collection).

Number of Respondents: 56.

Average Hours per Response: 4 hours.

Burden Hours: 896.

Needs and Uses: The American Recovery and Reinvestment Act of 2009 (Recovery Act), requires the Assistant Secretary of Commerce for Information and Communications (Assistant Secretary) to develop and maintain a comprehensive, interactive, and searchable nationwide inventory map of existing broadband service capability and availability in the U.S. that depicts the geographic extent to which broadband service capability is deployed and available from a commercial or public provider throughout each state. The statute further provides that the Assistant Secretary will make the national broadband map accessible by the public on a National Telecommunications and Information Administration (NTIA) Web site no later than February 17, 2011.

NTIA developed a competitive, merit-based matching grant program funding projects that collect comprehensive and accurate State-level broadband mapping data, develop State-level broadband maps, aid in the development and maintenance of a national broadband map, and fund statewide initiatives directed at broadband planning.

NTIA requires quarterly performance reports in order to gauge the progress of grant awardees in meeting their project goals.

Affected Public: Business or other for-profit organizations.

Frequency: Quarterly.

Respondent's Obligation: Required to obtain or retain benefits.

OMB Desk Officer: Nicholas Fraser, (202) 395-5887.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Nicholas Fraser, OMB Desk Officer, FAX number (202) 395-7285, or via the Internet at Nicholas_A._Fraser@omb.eop.gov.

Dated: October 15, 2010.
Gwellnar Banks,
Management Analyst, Office of the Chief Information Officer.

[FR Doc. 2010-26402 Filed 10-19-10; 8:45 am]

BILLING CODE 3510-60-P